CHEMICAL SAFETY AND HAZARD INVESTIGATION BOARD

Sunshine Act Meetings

TIME AND DATE: November 13, 2018, 10 a.m. EDT.

PLACE: U.S. Chemical Safety Board, 1750 Pennsylvania Ave. NW, Suite 910, Washington, DC 20006.

STATUS: This meeting will be closed to the public.

Matters To Be Considered

The Chemical Safety and Hazard Investigation Board (Board) will hold a closed session, as authorized by the Government in the Sunshine Act, to confer with, and receive advice from, its legal counsel regarding pending litigation. The Board will also consider and vote on calendared notation item 2019-08, which concerns the authorization of funding for a legal services support contract, and related matters.

Board Members, Counsel to the Board, and a recording clerk or stenographer will attend the closed meeting. Certain staff members who have an interest in the matters also may be present.

The Acting General Counsel of the Board has certified that, in his opinion, one or more of the exemptions set forth in 5 U.S.C. 552b (c)(6), (9)(B), and (10) and 40 CFR 1603.7(f),(h),(i) and (j), permit consideration of the scheduled matters at the closed meeting.

Board Members Kulinowski and Engler voted to consider the matters listed above in a closed session on the grounds noted above.

CONTACT PERSON FOR FURTHER INFORMATION: Thomas Zoeller, Acting General Counsel, at Tom.Zoeller@csb.gov or (202) 261-7600. Further information about this public meeting can be found on the CSB website at: www.csb.gov.

Dated: November 5, 2018.
Raymond Porfiri,
Deputy General Counsel, Chemical Safety and Hazard Investigation Board.

[FR Doc. 2018-24505 Filed 11-5-18; 4:15 pm]

BILLING CODE 6350-01-P